CHEMICAL SAFETY AND HAZARD INVESTIGATION BOARD

Sunshine Act Meeting Cancellation and Revision of Agenda

TIME AND DATE: January 30, 2014, 6:30 p.m.-9:00 p.m. PST.

PLACE: Brodniak Auditorium, Anacortes High School; 1600 20th St., Anacortes, WA 98221.

STATUS: Open to the public.

MATTERS TO BE CONSIDERED: The Chemical Safety and Hazard Investigation Board (CSB) previously announced a public meeting to be held on January 30, 2014 (78 FR 78810), starting at 6:30 p.m. PST at the Brodniak Auditorium, Anacortes High School, 1600 20th St., Anacortes, WA 98221.

The CSB public meeting to consider and vote upon a draft final investigation report is cancelled. In lieu of a Board meeting, the CSB will conduct a community listening session at the time and place stated above, in order to obtain additional stakeholder and community input on a draft final investigation report into the April 2, 2010, explosion and fire that fatally injured seven employees. The CSB's draft investigation found that at the time of the incident a bank of heat exchangers was being brought online in the refinery's naphtha hydrotreater unit when another heat exchanger in a parallel bank catastrophically failed, spewing highly flammable hydrogen and naphtha which ignited. Seven Tesoro workers who were nearby, assisting with the heat exchanger startup, were fatally burned. The accident at Tesoro was the mostly deadly U.S. refinery incident since the 2005 explosion at BP Texas City that killed 15 workers and injured 180 others.

No formal CSB action or recorded votes will be taken at the community listening session. The community listening session will include a presentation to the community of the draft report by the CSB investigative team. The report will then be available on the CSB Web site (www.csb.gov) for a period of 45 days, during which time public comments will be accepted.

At the community listening session, the CSB will receive additional input and comment from affected stakeholders and the community, and will consider this input in finalizing a report. All presentations made at this listening session are intended to allow the Board to consider any additional issues and factors that may bear upon this case.

Additional Information

The public listening session is free and open to the public. If you require a translator or interpreter, please notify the individual listed below as the “Contact Person for Further Information,” at least five business days prior to the meeting.

The CSB is an independent federal agency charged with investigating accidents and hazards that result, or may result, in the catastrophic release of extremely hazardous substances. The agency's Board Members are appointed by the President and confirmed by the Senate. CSB investigations look into all aspects of chemical accidents and hazards, including physical causes such as equipment failure as well as inadequacies in regulations, industry standards, and safety management systems.

Public Comment

Members of the public are invited to make brief statements to the CSB at the public listening session. The time provided for public comments will depend upon the number of people who wish to speak. Speakers should assume that their presentations will be limited to five minutes or less, and may submit written statements for the record.

Contact Person for Further Information

Hillary J. Cohen, Communications Manager, hillary.cohen@csb.gov or (202) 446-8094. General information about the CSB can be found on the agency Web site at: www.csb.gov.

Dated: January 21, 2014.
Rafael Moure-Eraso,
Chairperson.

[FR Doc. 2014-01410 Filed 1-21-14; 11:15 am]

BILLING CODE 6350-01-P